DEPARTMENT OF LABOR

Employment and Training Administration

[TA-W-65,907]

Tecumseh Products, Verona, MS; Notice of Termination of Investigation

Pursuant to Section 221 of the Trade Act of 1974, as amended, an investigation was initiated on May 11, 2009 in response to a petition filed on behalf of workers at Tecumseh Products, Verona, Mississippi. The workers at the subject facility produce compressors and small motors.

The petitioners have requested that the petition be withdrawn. Consequently, the investigation has been terminated.

Signed in Washington, DC, this 20th day of May 2009.
Richard Church,
Certifying Officer, Division of Trade Adjustment Assistance.

[FR Doc. E9-15215 Filed 6-26-09; 8:45 am]

BILLING CODE 4510-FN-P